DEPARTMENT OF THE INTERIOR

Bureau of Land Management

[NV-050-1610-DO]

Notice of Intent To Prepare a Resource Management Plan and Associated Environmental Impact Statement for the Sloan Canyon National Conservation Area

AGENCY: Bureau of Land Management, Interior.

ACTION: Notice of Intent (NOI) to prepare a Resource Management Plan (RMP) and associated Environmental Impact Statement (EIS) for the Sloan Canyon National Conservation Area.

SUMMARY: Notice is hereby given that the Bureau of Land Management (BLM) intends to prepare an RMP with an associated EIS for the Sloan Canyon National Conservation Area as directed in the Clark County Conservation of Public Land and Natural Resources Act of 2002 (Pub. L. 107-282). The planning area encompasses approximately 48,438 acres of public land within Clark County, Nevada. The Plan will fulfill the needs and obligations set forth by the National Environmental Policy Act (NEPA), the Federal Land Policy and Management Act (FLPMA), Public Law 107-282, and BLM policies. The public scoping process will identify planning issues and develop planning criteria, including evaluation of the existing Resource Management Plan (RMP). The BLM will work collaboratively with interested parties to develop and analyze management alternatives, taking into account local, regional, and national needs and concerns.

DATES: This notice initiates the public scoping process. Comments and concerns on issues can be submitted in writing to the address listed below and will be most useful if BLM receives them within 30-days. All public meetings will be announced through the local news media, newsletters, and the BLM web site at http://www.nv.blm.gov/vegas at least 15 days prior to the event. The minutes and list of attendees for each meeting will be available to the public and open for 30 days to any participant who wishes to clarify the views they expressed.

Public Participation: Public meetings will be held throughout the scoping, plan development, and EIS process. Interested state, local, and tribal governments are invited to participate. Public scoping meetings will be held in Las Vegas, Henderson, and Boulder City, Nevada. An outreach plan, including a public mailing list will be utilized and expanded to achieve the maximum possible early awareness and participation. In addition to the scoping process and on-going public participation plan, a formal opportunity to participate will occur upon publication of the draft RMP/EIS.

ADDRESSES: Written comments should be sent to the BLM, Charles H. Carroll, Las Vegas Field Office, 4701 North Torrey Pines Drive, Las Vegas, Nevada 89130, telephone (702) 515-5291. Documents pertinent to this RMP may be examined at the Las Vegas Field Office at the address listed above.

FOR FURTHER INFORMATION CONTACT: For further information contact Charles H. Carroll, Las Vegas Field Office Environmental Protection Specialist and Team Lead for the BLM at Bureau of Land Management, Las Vegas Field Office, 4701 North Torrey Pines Drive, Las Vegas, Nevada 89130, telephone (702) 515-5291.

SUPPLEMENTARY INFORMATION: The geographic area covered by the plan includes only those lands established as the Sloan Canyon National Conservation Area by Public Law 107-282, which is approximately 48,438 acres. A map is available for review at the Las Vegas Field Office, 4701 North Torrey Pines Drive, Las Vegas, NV 89130.

An interdisciplinary approach will be used to develop the RMP and EIS in order to consider the variety of resource issues and concerns identified. Disciplines involved in the planning process will include specialists with expertise in public outreach, planning/NEPA, cultural resources, paleontology, wilderness management, desert ecology, special status species, recreation, public interpretation, visual resource management, and urban interface. Other areas of expertise will be added as necessary.

Preliminary issues and management concerns have been identified by BLM personnel, other agencies, and in meetings with individuals and user groups. They represent the BLM's knowledge to date on the existing issues and concerns with current management. The major issue themes that will be addressed in the planning effort include:

1. How will the cultural, natural, and wilderness resources be interpreted for visitors to the planning area and non-visitors who may have an interest in learning more about the resources?

2. How will the cultural, natural, and wilderness resources of the Sloan Canyon NCA and the North McCullough Wilderness Area be preserved for the current and future generations?

3. How will the management of the Sloan Canyon NCA be integrated in a manner that is compatible with the plans and needs of Native American tribes, the City of Henderson, Clark County, and other Local, State, and Federal agencies?

4. How will the Sloan Canyon NCA Resource Management Plan be responsive to continually changing conditions, stemming primarily from an increasing urban interface?

5. How will the Sloan Canyon NCA Resource Management Plan ensure the long-term protection of the area's resources while providing appropriate scientific research opportunities?

6. How will visitors' activities and uses be managed in a manner that preserves the cultural, natural and wilderness resources while providing reasonable access to and enjoyment of the Sloan Canyon NCA?

7. What facilities and infrastructure will be needed to provide visitor services, information, and administration of the Sloan Canyon NCA?

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

Comments, including names and street addresses of respondents, will be available for public review at the Las Vegas Field Office during regular business hours, 7:30 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Dated: August 15, 2003.
Angie Lara,
Acting Field Manager.

[FR Doc. 03-23440 Filed 9-12-03; 8:45 am]

BILLING CODE 4310-HC-P